RAILROAD RETIREMENT BOARD

Agency Forms Submitted for OMB Review, Request for Comments

In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Railroad Service and Compensation Reports/System Access Application; OMB 3220-0008.

Under Section 9 of the Railroad Retirement Act (RRA) (45 U.S.C. 231h) and Section 6 of the Railroad Unemployment Insurance Act (RUIA) (45 U.S.C. 356), the Railroad Retirement Board (RRB) maintains for each railroad employee, a record of compensation paid to that employee by all railroad employers for whom the employee worked after 1936. This record, which is used by the RRB to determine eligibility for, and amount of, benefits due under the laws it administers, is conclusive as to the amount of compensation paid to an employee during such period(s) covered by the report(s) of the compensation by the employee's railroad employer(s), except in cases when an employee files a protest pertaining to his or her reported compensation within the statute of limitations cited in Section 9 of the RRA and Section 6 of the RUIA.

To enable the RRB to establish and maintain the record of compensation, employers are required to file with the RRB, reports of their employees' compensation, in such manner and form and at such times as the RRB prescribes. Railroad employers' reports and responsibilities are prescribed in 20 CFR 209. The RRB currently utilizes Form BA-3, Annual Report of Creditable Compensation, and Form BA-4, Report of Creditable Compensation Adjustments, to secure the required information from railroad employers. Form BA-3 provides the RRB with information regarding annual creditable service and compensation for each individual who worked for a railroad employer covered by the RRA and RUIA in a given year. Form BA-4 provides for the adjustment of any previously submitted reports and also the opportunity to provide any service and compensation that had been previously omitted. Requirements specific to Forms BA-3 and BA-4 are prescribed in 20 CFR 209.8 and 209.9.

Employers currently have the option of submitting BA-3 and BA-4 reports electronically by CD-ROM, secure Email, File Transfer Protocol (FTP), or online via the RRB's Employer Reporting System (ERS).

The information collection also includes RRB Form BA-12, Application for Employer Reporting internet Access, and Form G-440, Report Specifications Sheet. Form BA-12 is completed by railroad employers to obtain system access to ERS. Once access is obtained, authorized employees may submit reporting forms online to the RRB. The form determines what degree of access (view/only, data entry/modification or approval/submission) is appropriate for that employee. It is also used to terminate an employee's access to ERS. Form G-440, Report Specifications Sheet, serves as a certification document for Forms BA-3 and BA-4 as well as other RRB employer reporting forms (Form BA-6a, BA-6 Address Report (OMB 3220-0005), Form BA-9, Report of Separation Allowance or Severance Pay (OMB 3220-0173) and Form BA-11, Report of Gross Earnings (OMB 3220-0132)). It records the type of medium the report was submitted on, and serves as a summary recapitulation sheet for reports filed on paper.

Previous Requests for Comments: The RRB has already published the initial 60-day notice (83 FR 38507 on July 21, 2021) required by 44 U.S.C. 3506(c)(2). That request elicited no comments.

Information Collection Request (ICR)

Title: Railroad Service and Compensation Reports/System Access Application.

OMB Control Number: 3220-0008.

Form(s) submitted: BA-3, BA-3 (internet), BA-4, BA-4 (internet), BA-12 and G-440.

Type of request: Revision of a currently approved collection.

Affected public: Private Sector; Businesses or other for-profits.

Abstract: Under the Railroad Retirement Act and the Railroad Unemployment Insurance Act, employers are required to report service and compensation for each employee to update Railroad Retirement Board records for payments of benefits. The collection obtains service and compensation information and information needed to ensure secure system access from employers who voluntarily opt to use the RRB's internet-based Employer Reporting System to submit reporting forms and information needed to certify employer reporting transactions.

Changes proposed: The RRB proposes no changes to Forms BA-3 (internet), BA-4 (internet), BA-12, and G-440. The RRB proposes to remove Form BA-3 (Paper) and BA-4 (Paper) from the Information Collection due to less than 10 responses per year.

The burden estimate for the ICR is as follows:

Reporting | Responses | Time (minutes) | Burden (hours)
BA-3:
Electronic Media 2/ | 96 | 46.25 (2,775 min) | 4,440
BA-3 (Internet) | 617 | 46.25 (2,775 min) | 28,536
Total BA-3 | 713 |  | 32,976
BA-4:
Electronic Media 2/ | 355 | 1.00 (60 min) | 355
BA-4 (Internet) | 3,942 | .33 (20 min) | 1,314
Total BA-4 | 4,297 |  | 1,669
BA-12:
Initial Access | 295 | .33 (20 min) | 98
Access Termination | 38 | .166 (10 min) | 7
Total BA-12 | 333 |  | 105
G-440 (certification):
Form BA-3 (no employees) | 19 | .25 (15 min) | 5
Form BA-11 (no employees) | 60 | .25 (15 min) | 15
Paper forms (without recap) | 7 | .25 (15 min) | 1
Form BA-15 | 600 | .25 (15 min) | 150
Electronic transactions | 94 | .50 (30 min) | 47
BA-3 and BA-4 (with recap) | 125 | 1.25 (75 min) | 156
Total G-440 | 905 |  | 374
Grand Total | 6,248 |  | 35,194

2. Title and purpose of information collection: Evidence for Application of Overall Minimum, OMB 3220-0083.

Under Section 3(f)(3) of the Railroad Retirement Act (RRA) (45 U.S.C. 231b), the total monthly benefits payable to a railroad employee and his/her family are guaranteed to be no less than the amount which would be payable if the employee's railroad service had been covered by the Social Security Act. This is referred to as the Social Security Overall Minimum Guarantee, which is prescribed in 20 CFR 229. To administer this provision, the Railroad Retirement Board (RRB) requires information about a retired employee's spouse and child(ren) who would not be eligible for benefits under the RRA but would be eligible for benefits under the Social Security Act if the employee's railroad service had been covered by that Act. The RRB obtains the required information by the use of Forms G-319, Statement Regarding Family and Earnings for Special Guaranty Computation, and G-320, Student Questionnaire for Special Guaranty Computation. One response is required of each respondent. Completion is required to obtain or retain benefits. The RRB proposes no changes to Forms G-319 and G-320.

Previous Requests for Comments: The RRB has already published the initial 60-day notice (83 FR 38508 on July 21, 2021) required by 44 U.S.C. 3506(c)(2). That request elicited no comments.

Information Collection Request (ICR)

Title: Evidence for Application of Overall Minimum.

OMB Control Number: 3220-0083.

Forms submitted: G-319 and G-320.

Type of request: Extension without change of a currently approved collection.

Affected public: Individuals or Households.

Abstract: Under Section 3(f)(3) of the Railroad Retirement Act, the total monthly benefits payable to a railroad employee and his/her family are guaranteed to be no less than the amount which would be payable if the employee's railroad service had been covered by the Social Security Act.

Changes proposed: The RRB proposes no changes to Forms G-319 and G-320.

The burden estimate for the ICR is as follows:

Form number | Annual responses | Time (minutes) | Burden (hours)
G-319 (completed by the employee):
With assistance | 5 | 26 | 2
Without assistance | 230 | 55 | 211
G-319 (completed by spouse):
With assistance | 5 | 30 | 2
Without assistance | 10 | 60 | 10
G-320:
(Age 18 at Special Guaranty Begin Date or Special Guaranty Age 18 Attainments) | 30 | 15 | 7
G-320:
(Student Monitoring done in Sept, March and at end of school year) | 10 | 15 | 2
Total | 290 |  | 234

3. Title and purpose of information collection: Gross Earnings Report; OMB 3220-0132. In order to carry out the financial interchange provisions of Section 7(c)(2) of the Railroad Retirement Act (RRA) (45 U.S.C. 231f), the RRB obtains annually from railroad employer's the gross earnings for their employees on a one-percent basis, i.e., 1% of each employer's railroad employees. The gross earnings sample is based on the earnings of employees whose social security numbers end with the digits “30.” The gross earnings are used to compute payroll taxes under the financial interchange.

The gross earnings information is essential in determining the tax amounts involved in the financial interchange with the Social Security Administration and Centers for Medicare & Medicaid Services. Besides being necessary for current financial interchange calculations, the gross earnings file tabulations are also an integral part of the data needed to estimate future tax income and corresponding financial interchange amounts. These estimates are made for internal use and to satisfy requests from other government agencies and interested groups. In addition, cash flow projections of the social security equivalent benefit account, railroad retirement account and cost estimates made for proposed amendments to laws administered by the RRB are dependent on input developed from the information collection.

The RRB utilizes Form BA-11 to obtain gross earnings information from railroad employers. Employers have the option of preparing and submitting BA-11 reports online via the RRB's Employer Reporting System or on paper (or in like format) on magnetic tape cartridges, by File Transfer Protocol (FTP), or secure Email. The online BA-11 includes the option to file a “negative report” (no employees, or no employees with the digits “30”). Completion is mandatory. One response is requested of each respondent.

Previous Requests for Comments: The RRB has already published the initial 60-day notice (83 FR 38508 on July 21, 2021) required by 44 U.S.C. 3506(c)(2). That request elicited no comments.

Information Collection Request (ICR)

Title: Gross Earnings Report.

OMB Control Number: 3220-0132.

Form(s) submitted: BA-11, BA-11 (internet).

Type of request: Extension without change of a currently approved collection.

Affected public: Private Sector; Businesses or other for-profits.

Abstract: Section 7(c)(2) of the Railroad Retirement Act requires a financial interchange between the OASDHI trust funds and the railroad retirement account. The collection obtains gross earnings of railway employees on a 1% basis. The information is used to determine the amount which would place the OASDHI trust funds in the position they would have been if railroad service had been covered by the Social Security and FIC Acts.

Changes proposed: The RRB proposes no changes to Form BA-11.

The burden estimate for the ICR is as follows:

Form number | Annual responses | Time (minutes) | Burden (hours)
BA-11 CD-ROM | 0 | 30 | 0
BA-11 File Transfer Protocol | 11 | 300 | 55
BA-11 Secure Email | 0 | 30 | 0
BA-11 (Internet)—Positive | 424 | 30 | 77
BA-11 (Internet)—Negative | 154 | 15 | 106
Total | 589 |  | 238

Additional Information or Comments: Copies of the forms and supporting documents can be obtained from Kennisha Tucker at (312) 469-2591 or Kennisha.Tucker@rrb.gov. Comments regarding the information collection should be addressed to Brian Foster, Railroad Retirement Board, 844 North Rush Street, Chicago, Illinois, 60611-1275 or Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2021-20420 Filed 9-20-21; 8:45 am]

BILLING CODE 7905-01-P